DEPARTMENT OF COMMERCE

U.S. Census Bureau

Notice of Correction; 2020 Census Post-Enumeration Survey Initial and Final Housing Unit Follow-Up

AGENCY: U.S. Census Bureau, Commerce.

ACTION: Notice; correction; Notice of changes to the 2020 Census Post-Enumeration Survey (PES) Initial Housing Follow-Up (IHUFU) field operation.

SUMMARY: This document constitutes a notice of intent to provide a 30-day comment period on schedule changes, procedures for collecting information changes and estimate of hour of burden changes to the approved information collection for the 2020 Census Post-Enumeration Survey (PES) Initial Housing Follow-Up (IHUFU) field operation. The Department of Commerce, as part of its continuing effort to reduce paperwork and respondent burden, invites the general public and other federal agencies to take this opportunity to comment on proposed and/or continuing information collections, as required by the Paperwork Reduction Act of 1995.

SUPPLEMENTARY INFORMATION: The U.S. Census Bureau is issuing this notice to inform the public of changes in schedule, procedures for collecting information, and estimate of hour of burden, associated with the notice for public comment, titled “2020 Census Post-Enumeration Survey Initial and Final Housing Unit Follow-Up,” published in the Federal Register on April 17, 2019 (Vol. 84, No. 74, pp. 16000-16002).

The following highlights the proposed revisions and the reasons:

1. The PES IHUFU and IHUFU Quality Control operations will occur July 23, 2020, through September 21, 2020, instead of May 6, 2020, through June 19, 2020, because of COVID-19 restrictions.

2. Procedure changes for collecting information for the PES IHUFU field operation are proposed to minimize personal contact because of COVID-19. Originally, listers were instructed to contact a household member (or a proxy or by observation as a last resort) to complete IHUFU form (D-1303) at each housing unit (HU) selected for follow-up. Now listers are allowed to complete the form by observation first before attempting to interview by telephone or by a personal visit. For addresses that cannot be confirmed by observation, a letter will be sent to the addresses, along with the confidentiality notice, inviting respondents to call the lister to set up a telephone interview. If after five days the IHUFU case cannot be completed by observation or the respondent has not followed up based on the letter, then a personal visit is required. If the respondent or the lister does not feel comfortable conducting the interview in person at the door, then the lister may ask for the phone number and conduct a telephone interview.

3. The estimated workload is now approximately 253,800 (172,000 original estimate) HUs for PES IHUFU in selected basic collection units (BCUs) in the 50 states and the District of Columbia, and 31,400 (8,000 original estimate) HUs for IHUFU in Puerto Rico. The Census Bureau originally underestimated the workload for 2020 Puerto Rico IHUFU, but the revised numbers reported in this document reflect the correct estimated workload.

From the IHUFU workload, we will select a 15 percent sample of approximately 38,070 (25,800 original estimate) HUs from all BCUs in the 50 states and District of Columbia, and 4,710 (1,200 original estimate) HUs from all BCUs in Puerto Rico for the IHUFU QC operation. To calculate the estimated burden hours, we assumed a theoretical 100 percent response rate and a completion time of five minutes per case. The total estimated respondent burden for the IHUFU operation is approximately 27,333 (17,250) hours. However, since the Collection of Information has changed to primarily observation, the actual total respondent burden is expected to be less.

Operation | Estimated number of respondents | Estimated time per response (in minutes) | Total burden hours
2020 Census Post-Enumeration Survey—Original Estimate
Initial Housing Unit Follow-Up (stateside) | 172,000 | 5 | 14,333
Initial Housing Unit Follow-Up (PR) | 8,000 | 5 | 667
Initial Housing Unit Follow-Up Quality Control (stateside) | 25,800 | 5 | 2,150
Initial Housing Unit Follow-Up Quality Control (PR) | 1,200 | 5 | 100
Total | 207,000 respondents | 5 | 17,250 hours
2020 Census Post-Enumeration Survey—Revised Estimate
Initial Housing Unit Follow-Up (stateside) | 253,800 | 5 | 21,150
Initial Housing Unit Follow-Up (PR) | 31,400 | 5 | 2,617
Initial Housing Unit Follow-up Quality Control (stateside) | 38,070 | 5 | 3,173
Initial Housing Unit Follow-Up Quality Control (PR) | 4,710 | 5 | 393
Total | 327,980 | 5 | 27,333

There are no other proposed changes to the 2020 Census PES IHUFU field operation.

This information collection request may be viewed at www.reginfo.gov. Follow the instructions to view the Department of Commerce collections currently under review by OMB.

Written comments and recommendations for the proposed information collection should be submitted within 30 days of the publication of this notice on the following website: www.reginfo.gov/public/do/PRAMain. Find this particular information collection by selecting “Currently under 30-day Review—Open for Public Comments” or by using the search function and entering either the title of the collection or the OMB Control Number 0607-1010.

Sheleen Dumas,
Department PRA Clearance Officer, Office of the Chief Information Officer, Commerce Department.

[FR Doc. 2020-14977 Filed 7-10-20; 8:45 am]

BILLING CODE 3510-07-P